DEPARTMENT OF COMMERCE

International Trade Administration

[A-570-863]

Administrative Review of Honey from the People's Republic of China: Final Results of Antidumping Duty Administrative Review and Rescission of Review, In Part

AGENCY: Import Administration, International Trade Administration, Department of Commerce.

SUMMARY: On December 23, 2009, the Department of Commerce (“Department”) published in the Federal Register the preliminary results of the seventh administrative review, covering the period December 1, 2007, through November 30, 2008, of the antidumping duty order on honey from the People's Republic of China (“PRC”).¹ We gave interested parties an opportunity to comment on the Preliminary Results. After reviewing interested parties' comments, we made no changes for the final results of review. The final antidumping duty margins for this review are listed in the “Final Results of Review” section below.

¹ See Seventh Administrative Review of Honey from the People's Republic of China: Preliminary Results of Antidumping Duty Administrative Review and Intent to Rescind, In Part, 74 FR 68249 (December 23, 2009) (“Preliminary Results”).

DATES: Effective Date: May 6, 2010.

FOR FURTHER INFORMATION CONTACT: Katie Marksberry or Josh Startup, AD/CVD Operations, Office 9, Import Administration, International Trade Administration, U.S. Department of Commerce, 14th Street and Constitution Avenue, NW, Washington, DC 20230; telephone: (202) 482-7906 or (202) 482-5260, respectively.

SUPPLEMENTARY INFORMATION:

Background

On February 2, 2009, the Department initiated this review with respect to thirty-eight companies upon which an administrative review was requested.² Subsequently, pursuant to section 351.213(d)(1) of the Department's regulations, the Department rescinded the administrative review with respect to thirty-three companies, based upon Petitioners'³ timely withdrawal of review requests.⁴ Thus, five companies remain subject to this review.

² See Initiation of Antidumping and Countervailing Duty Administrative Reviews and Request for Revocation in Part, 74 FR 5821 (February 2, 2009) (“Initiation Notice”).

³ The petitioners are the members of the American Honey Producers Association and the Sioux Honey Association (hereinafter referred to as “Petitioners”).

⁴ See Honey from the People's Republic of China: Partial Rescission of the Seventh Antidumping Administrative Review, 74 FR 11087 (March 16, 2009).

As noted above, on December 23, 2009, the Department published the Preliminary Results of this administrative review. In the Preliminary Results Federal Register notice, we set the deadline for interested parties to submit case briefs and rebuttal briefs to January 22, 2010, and January 29, 2010, respectively. On January 26, 2010, we extended the deadline for parties to submit rebuttal briefs to February 3, 2010. On January 21, 2010, Dongtai Peak Honey Industry Co., Ltd. (“Dongtai Peak”) filed a case brief. On February 4, 2010, the Petitioners filed a rebuttal brief. On February 17, 2010, the Department sent Dongtai Peak a letter requiring it to remove new factual information from its brief, pursuant to section 351.301(b)(2) of the Department's regulations. Subsequently, Dongtai Peak resubmitted its case brief on February 24, 2010. On March 30, 2010, the Department sent Dongtai Peak another letter, rejecting Dongtai Peak's resubmitted case brief which continued to contain new information. On April 2, 2010, Dongtai Peak resubmitted its case brief. The Department did not hold a public hearing pursuant to 19 CFR 351.310(d), as there were no hearing requests made by interested parties.

As explained in the memorandum from the Deputy Assistant Secretary for Import Administration, the Department has exercised its discretion to toll deadlines for the duration of the closure of the Federal Government from February 5, through February 12, 2010.⁵ Thus, all deadlines in this segment of the proceeding were extended by seven days, and the revised deadline for the final results of this review became April 29, 2010.

⁵ See Memorandum to the Record regarding ``Tolling of Administrative Deadlines As a Result of the Government Closure During the Recent Snowstorm,'' dated February 12, 2010.

Analysis of Comments Received

All issues raised in the case and rebuttal briefs by parties to these reviews are addressed in the “Administrative Review of Honey from the People's Republic of China: Issue and Decision Memorandum for the Final Results,” (“Issues and Decision Memorandum”) which is dated concurrently with this notice, and which is hereby adopted by this notice. A list of the issues which parties raised and to which we respond in the Issues and Decision Memorandum is attached to this notice as an Appendix. The Issues and Decision Memorandum is a public document and is on file in the Central Records Unit (“CRU”), Main Commerce Building, Room 1117, and is accessible on the Department's website at http://www.trade.gov/ia. The paper copy and electronic version of the memorandum are identical in content.

Scope of the Order

The products covered by this order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to this order is currently classifiable under subheadings 0409.00.00, 1702.90.90 and 2106.90.99 of the Harmonized Tariff Schedule of the United States (“HTSUS”). Although the HTSUS subheadings are provided for convenience and customs purposes, the Department's written description of the merchandise under order is dispositive.

Final Partial Rescission of Administrative Review

In the Preliminary Results, the Department preliminarily rescinded the administrative review of Dongtai Peak, whose POR sales the Department found to be non-bona fide. See Preliminary Result; see also Memorandum to James C. Doyle, Director, Office 9; through Catherine Bertrand, Program Manager; from Blaine Wiltse, International Trade Compliance Analyst; regarding Antidumping Duty Administrative Review of Honey from the People's Republic of China: Bona fide Analysis of the Sales Under Review for Dongtai Peak Honey Industry Co., Ltd. (dated December 16, 2009). The Department received comments with respect to our preliminary decision to rescind the review. The Department continues to find the sales by Dongtai Peak to be non-bona fide.⁶

⁶ See Issues and Decision Memorandum at Comment 1.

Facts Available

For the reasons stated below, we are applying adverse facts available (“AFA”) to the PRC-wide entity which includes Anhui Native Produce Import and Export Corp. (“Anhui Native”). Section 776(a)(2) of the Act provides that if an interested party: (A) withholds information that has been requested by the Department; (B) fails to provide such information in a timely manner or in the form or manner requested, subject to subsections 782(c)(1) and (e) of the Act; (C) significantly impedes a determination under the antidumping statute; or (D) provides such information but the information cannot be verified, the Department shall, subject to subsection 782(d) of the Act, use facts otherwise available in reaching the applicable determination.

Furthermore, section 776(b) of the Act provides that, if the Department finds that an interested party “has failed to cooperate by not acting to the best of its ability to comply with a request for information,” the Department may use information that is adverse to the interests of that party as facts otherwise available. Adverse inferences are appropriate “to ensure that the party does not obtain a more favorable result by failing to cooperate than if it had cooperated fully.” See Statement of Administrative Action (“SAA”) accompanying the URAA, H.R. Doc. No. 316, 103d Cong., 2d Session at 870 (1994). An adverse inference may include reliance on information derived from the petition, the final determination in the investigation, any previous review, or any other information placed on the record. See section 776(b) of the Act.

In the Preliminary Results, the Department determined that in accordance with section 776(a)(2)(B) of the Act and 782(c)(1) of the Act, the use of facts available is appropriate for the PRC-wide entity, which the Department determined includes Anhui Native. As discussed in the Preliminary Results, Anhui Native was selected as a mandatory respondent in the current review but did not submit a response to the antidumping duty questionnaires issued by the Department on March 9, 2009. On April 15, 2009, Anhui Native submitted a letter informing the Department that it would not participate in the current review. As Anhui Native was selected as a mandatory respondent but did not submit its response to the questionnaire, Anhui Native did not demonstrate its eligibility for a separate rate and thus was determined to be part of the PRC-wide entity for purposes of this review. Because Anhui Native, as part of the PRC-wide entity, failed to respond to the Department's requests for information, the Department finds that the PRC-wide entity did not cooperate to the best of its ability, and its non-responsiveness necessitates the use of facts available, pursuant to sections 776(a)(2)(A), (B) and (C) of the Act. Because the PRC-wide entity, now including Anhui Native, withheld requested information, failed to provide information in a timely manner and in the form requested, and significantly impeded this proceeding, we continue to find that the PRC-wide entity, failed to cooperate to the best of its ability, and, accordingly, find it appropriate to apply to it a margin based on AFA.. The Department's determination is in accordance with sections 776(a)(2)(A), (B), (C) and 776(b) of the Act.⁷ As no interested party commented on this determination regarding Anhui Native or the PRC-wide entity, we have made no changes from our Preliminary Results with respect to this issue.

⁷ See e.g., Non-Malleable Cast Iron Pipe Fittings from the People's Republic of China: Final Results of Antidumping Duty Administrative Review, 71 FR 69546 (December 1, 2006) and accompanying Issues and Decision Memorandum at Comment 1. See also Certain Frozen Warmwater Shrimp from the Socialist Republic of Vietnam: Preliminary Results of the First Administrative Review and New Shipper Review, 72 FR 10689, 10692 (March 9, 2007) (decision to apply total AFA to the NME-wide entity) unchanged in Certain Frozen Warmwater Shrimp From the Socialist Republic of Vietnam: Final Results of the First Antidumping Duty Administrative Review and First New Shipper Review, 72 FR 52052 (September 12, 2007) (“Vietnam Shrimp AR1”).

Separate Rate Status

In the Preliminary Results, the Department noted that it was unable to deliver the antidumping duty questionnaire to Qinhuangdao Municipal Dafeng Industrial Co., Ltd. (“QMD”) after it was selected for individual examination in this review. Also, in the Preliminary Results, we stated that because QMD did not submit a separate rate certification or application, as instructed in the Initiation Notice, we found that QMD did not demonstrate its eligibility for a separate rate and thus is properly considered part of the PRC-wide entity. Consequently, as no interested party commented on this issue, we are continuing to find that QMD is not eligible for a separate rate in this review and will be considered part of the PRC-Wide entity.

In the Initiation Notice, we required that all companies listed therein wishing to qualify for separate rate status in this administrative review to submit, as appropriate, either a separate rate application or certification.⁸ As noted above, the Department initiated this administrative review with respect to thirty-eight companies, and rescinded the review on thirty-three of those thirty-eight companies. Thus, in addition to Dongtai Peak, Anhui Native, and QMD, two companies remain subject to this review. We note that neither of the two remaining companies, Inner Mongolia Youth Trade Development Co., Ltd. and Wuhu Qinshgi Tangye, demonstrated eligibility for separate rate status in this administrative review. In the Preliminary Results, the Department determined that those companies which did not demonstrate eligibility for a separate rate are properly considered part of the PRC-Wide entity.⁹ Since the Preliminary Results, no interested parties submitted comments regarding these findings. Therefore, we continue to treat these two entities as part of the PRC-Wide entity.

⁸ See Initiation Notice.

⁹ See Preliminary Results.

Final Results of Review

The weighted-average dumping margins for the POR are as follows:

Honey from the People's Republic of China
Manufacturer/Exporter | Margin (per kilogram)
PRC-Wide Rate¹⁰ | $2.63

Assessment

Upon issuance of these final results, the Department will determine, and Customs and Border Protection (“CBP”) shall assess, antidumping duties on all appropriate entries covered by these reviews. The Department intends to issue assessment instructions to CBP 15 days after the publication date of the final results of this review.

¹⁰ The PRC-wide entity includes: Anhui Native Produce Import and Export Corp., Inner Mongolia Youth Trade Development Co., Ltd., Qinhuangdao Municipal Dafeng Industrial Co., Ltd., and Wuhu Qinshgi Tangye.

Cash Deposit Requirements

The following cash deposit requirements will be effective upon publication of these final results of administrative review for all shipments of the subject merchandise entered, or withdrawn from warehouse, for consumption on or after the publication date, as provided for by section 751(a)(2)(C) of the Act: (1) for the exporters listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate $2.68 per kilogram; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: April 29, 2010.
Ronald K. Lorentzen,
Deputy Assistant Secretary for Import Administration.

Appendix I - Decision Memorandum

Company Specific Issues

Comment 1: Whether Dongtai Peak' Sales Were Not Bona Fide

a. Timing of POR Sales

b. Prices of Sales

c. Quantity of Sales

d. Business Practices of U.S. Customers

[FR Doc. 2010-10685 Filed 5-5-10; 8:45 am]

BILLING CODE 3510-DS-S